DEPARTMENT OF LABOR

Employment and Training Administration

[TA-W-72,493]

Ananke, Inc., Providence, RI; Notice of Affirmative Determination Regarding Application for Reconsideration

By application dated October 25, 2010, a worker requested administrative reconsideration of the negative determination regarding workers' eligibility to apply for Trade Adjustment Assistance (TAA) applicable to workers and former workers of the subject firm. The determination was issued on October 6, 2010, and the Notice of Determination was published in the Federal Register on October 25, 2010 (75 FR 65520-21).

The initial investigation resulted in a negative determination based on the findings that neither the subject firm nor a client firm shifted to/acquired from a foreign country the supply of services like or directly competitive with the services supplied by the workers, that the subject firm did not import like or directly competitive services during the relevant period, and that the subject workers are not adversely affected secondary workers.

The request for reconsideration states that “Ananke Inc. performed application packaging services for John Hancock * * * In September 2009, John Hancock replaced * * * Ananke Inc. with * * * Cognizant Technology Solutions (an offshoring/outsourcing company)” and included support documentation.

The Department of Labor has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC this 1st day of December, 2010.
Del Min Amy Chen,
Certifying Officer, Office of Trade Adjustment Assistance.

[FR Doc. 2010-31137 Filed 12-10-10; 8:45 am]

BILLING CODE 4510-FN-P